DEPARTMENT OF THE INTERIOR

National Park Service

[NPS-WASO-NAGPRA-NPS0027394; PPWOCRADN0-PCU00RP14.R50000]

Notice of Inventory Completion: The Field Museum of Natural History, Chicago, IL

AGENCY: National Park Service, Interior.

ACTION: Notice.

SUMMARY: The Field Museum has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Field Museum. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Field Museum at the address in this notice by April 29, 2019.

ADDRESSES: Helen Robbins, The Field Museum, 1400 S Lakeshore Drive, Chicago, IL 60605, telephone (312) 655-7317, email hrobbins@fieldmuseum.org.

SUPPLEMENTARY INFORMATION: Notice is here given in accordance with the Native American Graves Protection and Repatriation Act (NAGPRA), 25 U.S.C. 3003, of the completion of an inventory of human remains and associated funerary objects under the control of the Field Museum, Chicago, IL. The human remains and associated funerary objects were removed from Mercer County, NJ.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Field Museum professional staff in consultation with representatives of the Delaware Nation, Oklahoma; Delaware Tribe of Indians; and the Stockbridge Munsee Community, Wisconsin.

History and Description of the Remains

Between 1891 and 1892, the human remains and associated funerary objects in this notice were excavated by Ernest Volk as part of his work for the World's Columbian Exposition. These human remains and associated funerary objects were acquired by the Field Museum (then named the Field Columbian Museum) in October 1893.

In the fall of 1891, human remains representing, at minimum, three individuals were removed from contexts at Lalor Field in Mercer County, NJ. No known individuals were identified. The human remains include a sub-adult (possibly female), an adult female, and an adult (possibly female). The two associated funerary objects are faunal elements.

In the fall of 1891, human remains representing, at minimum, 12 individuals and were removed from contexts at Wright's Field in Mercer County, NJ. No known individuals were identified. The human remains include two adult females, seven adults of unknown sex, one sub-adult of unknown sex, one sub-adult (possibly female), and one adult (possibly female). The 39 associated funerary objects are 20 faunal elements, 11 pottery sherds, one lithic, and seven non-culturally modified objects.

In 1892, human remains representing, at minimum, two individuals were removed from Trench 1 at Rowan Farm in Mercer County, NJ. One of them is an adult of unknown sex represented by fragmentary and partial skeletal remains; the other is represented only by a right femur. No known individuals were identified. No associated funerary objects are present.

Sometime during 1891 or 1892, human remains representing, at minimum, 10 individuals were removed by Volk from unknown sites in the Trenton area of Mercer County, NJ. The human remains include one adult male, six adults of indeterminate sex, and three juveniles of indeterminate sex. No known individuals were identified. The 18 associated funerary objects are two sherds of pottery, two lithic flakes, two lithic objects, one piece of charcoal, one piece of modified sandstone, and 10 non-culturally modified objects.

Determinations Made by the Field Museum

Officials of the Field Museum have determined that:

• Pursuant to 25 U.S.C. 3001(9), the human remains described in this notice are Native American based on the archeological contexts and the collection history.

• Pursuant to 25 U.S.C. 3001(9), the human remains described in this notice represent the physical remains of 27 individuals of Native American ancestry.

• Pursuant to 25 U.S.C. 3001(3)(A), the 59 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Delaware Nation, Oklahoma; Delaware Tribe of Indians; and the Stockbridge Munsee Community, Wisconsin.

• Pursuant to 43 CFR 10.11(c)(1), the disposition of the human remains and associated funerary objects may be to the Delaware Nation, Oklahoma; Delaware Tribe of Indians; and the Stockbridge Munsee Community, Wisconsin.

Additional Requestors and Disposition

Representatives of any Indian Tribe or Native Hawaiian organization not identified in this notice that wish to request transfer of control of these human remains and associated funerary objects should submit a written request with information in support of the request to Helen Robbins, The Field Museum, 1400 S Lakeshore Drive, Chicago, IL 60605, telephone (312) 655-7317, email hrobbins@fieldmuseum.org, by April 29, 2019. After that date, if no additional requestors have come forward, transfer of control of the human remains and associated funerary objects to the Delaware Nation, Oklahoma; Delaware Tribe of Indians; and the Stockbridge Munsee Community, Wisconsin may proceed.

The Field Museum is responsible for notifying the Delaware Nation, Oklahoma; Delaware Tribe of Indians; and the Stockbridge Munsee Community, Wisconsin that this notice has been published.

Dated: February 25, 2019.
Melanie O'Brien,
Manager, National NAGPRA Program.

[FR Doc. 2019-05996 Filed 3-27-19; 8:45 am]

BILLING CODE 4312-52-P